DEPARTMENT OF TRANSPORTATION

Federal Aviation Administration

14 CFR Part 39

[Docket No. FAA-2011-1318; Directorate Identifier 2010-NM-274-AD; Amendment 39-17009; AD 2012-07-03]

RIN 2120-AA64

Airworthiness Directives; 328 Support Services GmbH Airplanes

AGENCY: Federal Aviation Administration (FAA), Department of Transportation (DOT).

ACTION: Final rule.

SUMMARY: We are superseding an existing airworthiness directive (AD) for all 328 Support Services GmbH (Type Certificate previously held by AvCraft Aerospace GmbH; Fairchild Dornier GmbH; Dornier Luftfahrt GmbH) Model 328-100 and -300 airplanes. That AD currently requires performing a detailed visual inspection of the cockpit door locking device and the surrounding area for proper installation, and corrective action if necessary. This new AD requires removing or replacing the locking device of the cockpit door; performing operational tests, and repair if necessary; and, for certain airplanes, installing gap filler parts. This AD was prompted by a report that a right-hand power lever jammed in flight-idle position during the landing roll-out, and the airplane was stopped by excessive braking. We are issuing this AD to detect and correct interference with the engine and flight control cables, which could result in reduced controllability of the airplane.

DATES: This AD becomes effective May 10, 2012.

The Director of the Federal Register approved the incorporation by reference of certain publications listed in this AD as of May 10, 2012.

The Director of the Federal Register approved the incorporation by reference of certain other publications listed in this AD as of November 20, 2009 (74 FR 53151, October 16, 2009).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on December 12, 2011 (76 FR 77159), and proposed to supersede AD 2009-21-06, Amendment 39-16043 (74 FR 53151, October 16, 2009). That NPRM proposed to correct an unsafe condition for the specified products. The MCAI states:

An incident has been reported with a Dornier 328-100 aeroplane, where the right-hand (RH) power lever jammed in flight-idle position during the landing roll-out. The aeroplane was stopped by excessive braking.

The reason for the jamming was that the cockpit door locking device Part Number (P/N) 001A252A3914012 had fallen off the RH cockpit wall, blocking the RH power/condition lever pulley/cable cluster below the door. Although the affected aeroplane had been modified, the technical investigation showed that a loose Cockpit Door Locking device could also occur on 328-100 and 328-300 aeroplanes with a standard installation.

This condition, if not corrected, could cause interference with the engine and/or flight control cables, possibly resulting in reduced control of the aeroplane.

To address that unsafe condition, EASA issued AD 2009-0082 [which corresponds to FAA AD 2009-21-06, Amendment 39-16043 (74 FR 53151, October 16, 2009)] as an interim solution, to require a one-time inspection of the cockpit door locking device and the surrounding area and the reporting of all findings to the TC [type certificate] holder.

Since that AD was issued, the TC holder has developed an improved cockpit door locking device, P/N 001A252A3914016. Consequently, this [EASA] AD retains the requirements of [EASA] AD 2009-0082, which is superseded, and requires the replacement of the current P/N 001A252A3914012 with new designed P/N 001A252A3914016 cockpit door locking device, or the removal of the cockpit door locking device P/N 001A252A3914012 and the installation of a gap filler, as applicable to aeroplane configuration.

The required actions include performing operational tests, and repair if necessary. You may obtain further information by examining the MCAI in the AD docket.

Comments

We gave the public the opportunity to participate in developing this AD. We received no comments on the NPRM (76 FR 77159, December 12, 2011) or on the determination of the cost to the public.

Conclusion

We reviewed the available data and determined that air safety and the public interest require adopting the AD as proposed—except for minor editorial changes. We have determined that these minor changes:

• Are consistent with the intent that was proposed in the NPRM (76 FR 77159, December 12, 2011) for correcting the unsafe condition; and

• Do not add any additional burden upon the public than was already proposed in the NPRM (76 FR 77159, December 12, 2011).

Costs of Compliance

We estimate that this AD will affect 59 products of U.S. registry.

The actions that are required by AD 2009-21-06, Amendment 39-16043 (74 FR 53151, October 16, 2009), and retained in this AD take about 1 work-hour per product, at an average labor rate of $85 per work-hour. Based on these figures, the estimated cost of the currently required actions is $85 per product.

We estimate that it will take about 6 work-hours per product to comply with the new basic requirements of this AD. The average labor rate is $85 per work-hour. Required parts will cost about $2,315 per product. Where the service information lists required parts costs that are covered under warranty, we have assumed that there will be no charge for these parts. As we do not control warranty coverage for affected parties, some parties may incur costs higher than estimated here. Based on these figures, we estimate the cost of this AD to the U.S. operators to be $166,675, or $2,825 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 77159, December 12, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-21-06, Amendment 39-16043 (74 FR 53151, October 16, 2009), and adding the following new AD:

2012-07-03 328 Support Services GmbH (Type Certificate Previously Held by AvCraft Aerospace GmbH; Fairchild Dornier GmbH; Dornier Luftfahrt GmbH): Amendment 39-17009. Docket No. FAA-2011-1318; Directorate Identifier 2010-NM-274-AD.

(a) Effective Date

This airworthiness directive (AD) becomes effective May 10, 2012.

(b) Affected ADs

This AD supersedes AD 2009-21-06, Amendment 39-16043 (74 FR 53151, October 16, 2009).

(c) Applicability

This AD applies to 328 Support Services GmbH (Type Certificate previously held by AvCraft Aerospace GmbH; Fairchild Dornier GmbH; Dornier Luftfahrt GmbH) Model 328-100 and -300 airplanes, certificated in any category, all serial numbers.

(d) Subject

Air Transport Association (ATA) of America Code 25: Equipment/Furnishings.

(e) Reason

This AD was prompted by a report that a right-hand power lever jammed in flight-idle position during the landing roll-out, and the airplane was stopped by excessive braking. We are issuing this AD detect and correct interference with the engine and flight control cables, which could result in reduced controllability of the airplane.

(f) Compliance

You are responsible for having the actions required by this AD performed within the compliance times specified, unless the actions have already been done.

(g) Restatement of Certain Requirements of AD 2009-21-06, Amendment 39-16043

(74 FR 53151, October 16, 2009): Inspection

Within 3 months after November 20, 2009 (the effective date of AD 2009-21-06, Amendment 39-16043 (74 FR 53151, October 16, 2009)), do a detailed visual inspection of the cockpit door locking device and the surrounding area for proper installation, in accordance with the Accomplishment Instructions of 328 Support Services Service Bulletin SB-328-25-485 or SB-328J-25-235, both dated January 28, 2009, as applicable.

(h) Corrective Action

If any discrepancy is found during the inspection specified in paragraph (g) of this AD, before further flight, do the corrective action, in accordance with the Accomplishment Instructions of 328 Support Services Service Bulletin SB-328-25-485 or SB-328J-25-235, both dated January 28, 2009, as applicable.

(i) New Requirements of This AD: Install, Replace, and Test

Within 4,000 flight hours or 24 months after the effective date of this AD, whichever occurs first, do the applicable actions specified in paragraph (i)(1) or (i)(2) of this AD.

(1) For airplanes on which a door locking device with Option 521K010 is installed: Remove the locking device of the cockpit door, part number (P/N) 001A252A3914012, install the gap filler parts, and do operational tests, in accordance with the Accomplishment Instructions of 328 Support Services Service Bulletin SB-328-25-492, dated March 18, 2010 (for Model 328-100 airplanes); or 328 Support Services Service Bulletin SB-328J-25-244, dated March 18, 2010 (for Model 328-300 airplanes).

(2) For airplanes on which a door locking device with Option 521K010 is not installed: Replace the locking device of the cockpit door, P/N 001A252A3914012, with a new locking device, P/N 001A252A3914016, and do operational tests, in accordance with the Accomplishment Instructions of 328 Support Services Service Bulletin SB-328-25-491, dated March 18, 2010 (for Model 328-100 airplanes); or 328 Support Services Service Bulletin SB-328J-25-243, dated March 18, 2010 (for Model 328-300 airplanes).

(j) Repair

If any operational test fails during the actions specified in paragraph (i)(1) or (i)(2) of this AD: Before further flight, repair in accordance with a method approved by the Manager, International Branch, ANM-116, Transport Airplane Directorate, FAA, or the European Aviation Safety Agency (or its delegated agent).

(k) Parts Installation

As the effective date of this AD, no person may install a locking device of the cockpit door having P/N 001A252A3914012 on any airplane.

(l) Other FAA AD Provisions

The following provisions also apply to this AD:

(1) Alternative Methods of Compliance (AMOCs): The Manager, International Branch, ANM-116, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

Refer to MCAI EASA Airworthiness Directive 2010-0169, dated August 13, 2010, and the service bulletins specified in paragraphs (m)(1) through (m)(6) of this AD, for related information.

(1) 328 Support Services Service Bulletin SB-328-25-485, dated January 28, 2009.

(2) 328 Support Services Service Bulletin SB-328J-25-235, dated January 28, 2009.

(3) 328 Support Services Service Bulletin SB-328-25-491, dated March 18, 2010.

(4) 328 Support Services Service Bulletin SB-328J-25-243, dated March 18, 2010.

(5) 328 Support Services Service Bulletin SB-328-25-492, dated March 18, 2010.

(6) 328 Support Services Service Bulletin SB-328J-25-244, dated March 18, 2010.

(n) Material Incorporated by Reference

(1) You must use the following service information to do the actions required by this AD, unless the AD specifies otherwise. The Director of the Federal Register approved the incorporation by reference (IBR) of the following service information under 5 U.S.C. 552(a) and 1 CFR part 51 on the date specified:

(i) 328 Support Services Service Bulletin SB-328-25-485, dated January 28, 2009, approved for IBR November 20, 2009 (74 FR 53151, October 16, 2009). Only the odd-numbered pages of this document contain the issue date of the document.

(ii) 328 Support Services Service Bulletin SB-328J-25-235, dated January 28, 2009, approved for IBR November 20, 2009 (74 FR 53151, October 16, 2009). Only the odd-numbered pages of this document contain the issue date of the document.

(iii) 328 Support Services Service Bulletin SB-328-25-491, dated March 18, 2010, approved for IBR May 10, 2012. Only the odd-numbered pages of this document contain the issue date of the document.

(iv) 328 Support Services Service Bulletin SB-328-25-492, dated March 18, 2010, approved for IBR May 10, 2012. Only the odd-numbered pages of this document contain the issue date of the document.

(v) 328 Support Services Service Bulletin SB-328J-25-243, dated March 18, 2010, approved for IBR May 10, 2012. Only the odd-numbered pages of this document contain the issue date of the document.

(vi) 328 Support Services Service Bulletin SB-328J-25-244, dated March 18, 2010, approved for IBR May 10, 2012. Only the odd-numbered pages of this document contain the issue date of the document.

(2) For service information identified in this AD, contact 328 Support Services GmbH, Global Support Center, P.O. Box 1252, D-82231 Wessling, Federal Republic of Germany; telephone +49 8153 88111 6666; fax +49 8153 88111 6565; email gsc.op@328support.de; Internet http://www.328support.de.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on March 23, 2012.
Ali Bahrami
Manager, Transport Airplane Directorate, Aircraft Certification Service.

[FR Doc. 2012-7850 Filed 4-4-12; 8:45 am]

BILLING CODE 4910-13-P